DEPARTMENT OF THE INTERIOR

National Park Service

[NPS-WASO-NRNHL-23993; PPWOCRADI0, PCU00RP14.R50000]

National Register of Historic Places; Notification of Pending Nominations and Related Actions

AGENCY: National Park Service, Interior.

ACTION: Notice.

SUMMARY: The National Park Service is soliciting comments on the significance of properties nominated before August 5, 2017, for listing or related actions in the National Register of Historic Places.

DATES: Comments should be submitted by September 18, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before August 5, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Alameda County

Brooklyn Presbyterian Church, 1433 12th Ave., Oakland, SG100001600

El Dorado County

Georgetown Civil War Armory, 6259 Main St., Georgetown, SG100001601

Los Angeles County

Great Wall of Los Angeles, The (Latinos in 20th Century California MPS), Section of Tujunga Flood Control Channel bounded by Oxnard St., Coldwater Canyon & Burbank Blvds. & Coldwater Canyon Rd., Los Angeles, MP100001602

Maxfield Building, 819 S. Santee St., Los Angeles, SG100001603

Marin County

Marin City Public Housing, 101-429 Drake Ave., 1-99 Cole Dr., Marin City, SG100001604

Orange County Hewes, David, House, 350 S. B St., Tustin, SG100001605

INDIANA

La Porte County

Wynkoop—Taylor—Swanson—Sharp Farmstead, 3463 N. IN 39, La Porte vicinity, SG100001607

Marion County

Carson, Julia M., House, 2530 N. Park Ave., Indianapolis, SG100001608

Marshall County

Argos Northside Historic District, N. Michigan St. between Smith & N. of North Sts. & Maple St. between Church & Poplar Sts., Argos, SG100001613

St. Joseph County

Mishawaka Fire Station No. 4, 2319 Lincolnway E., Mishawaka, SG100001614

Steuben County

Cline, Cyrus and Jennie, House, 313 E. Maumee St., Angola, SG100001615

Vigo County

Saint Mary-of-the-Woods Historic District, Roughly bounded by St. Mary's Rd., 1840 Way St., Grove & Orchard Lns., Woods Way, &, College Rd. 2, Terre Haute vicinity, SG100001616

MASSACHUSETTS

Franklin County

Riverside Village Historic District, 0-77 French King Hwy., 0-61 Riverview Dr., 1-9 Grove, 2-9 Myrtle, 8 Meadow, 2-23 Oak, 1-4 Pine & 3-32 Walnut Sts., Gill, SG100001617

NEVADA

Douglas County

Lampe, Wilhelm and William, Ranch (Agriculture on the Carson River in Nevada's Douglas and Ormsby Counties MPS), 1335 Centerville Ln., Gardnerville, MP100001620

NEW HAMPSHIRE

Rockingham County

Emery Farm, 16 Emery Ln., Stratham, SG100001621

NEW YORK

Chemung County

St. Matthew's Episcopal Church, 408 S. Main St., Horseheads, SG100001622

Columbia County

Crandell Theatre, 46-48 Main St., Chatham, SG100001623

Herkimer County

Stillwater Mountain Fire Observation Station (Fire Observation Stations of New York State Forest Preserve MPS), 1 mi. off Big Moose Rd., Webb, MP100001624

Onondaga County

Sagamore Apartment House, 664-666 W. Onondaga St., Syracuse, SG100001625

Orange County

Gumaer Cemetery, Neversink Preserve, Guymard Tpk. vicinity, Godeffroy vicinity, SG100001626

NORTH CAROLINA

Alamance County

Granite Mill, 114, 116, 122, 180, 218, 222, 224 & 226 E. Main St., Haw River, SG100001627

Avery County

Banner Elk School, 185 Azalea Cir., Banner Elk, SG100001628

Caldwell County

Bernhardt, J.M., Planing Mill and Box Factory—Steele Cotton Mill, 1201 Steele St., Lenoir, SG100001629

Lenoir Cotton Mill—Blue Bell Inc. Plant, 1241 College Ave., Lenoir, SG100001630

Forsyth County

Reynolds, R.J., Tobacco Company Buildings 2-1 and 2-2, 951 Reynolds Blvd., Winston-Salem, SG100001631

Mecklenburg County

Highland Park Mill No. 1, 340 E. 16th St., Charlotte, SG100001632

Orange County

Nash, Arthur C. and Mary S.A., House, 124 S. Boundary St., Chapel Hill, SG100001633

Wake County

Depot Historic District (Boundary Increase), 302-310 S. West St., Raleigh, BC100001634

PENNSYLVANIA

Chester County

Twin Bridges Rural Historic District, Roughly bounded by Creek & Bullock Rds., Beverly Farm, Big Bend & Hill Girt Farms, Estates, Brandywine Cr., Pennsbury Township, SG100001635

Luzerne County

Memorial Presbyterian Church, Address Restricted, Wilkes-Barre vicinity, SG100001636

UTAH

Duchesne County

Myton Presbyterian Church, 225 E 100 S, Myton, SG100001638

VIRGINIA

Bristol Independent City

Bristol Commercial Historic District (Boundary Increase), 40-115 Piedmont Ave., Bristol (Independent City), BC100001640

Charlottesville Independent City

West Main Street Historic District, Parts of W. Main St., 6th, 4th & 8 Sts. NW. & Ridge St., Charlottesville (Independent City), SG100001641

Mathews County

Mathews Downtown Historic District, Address Restricted, Mathews Court House vicinity, SG100001642

Richmond Independent City

Fulton, Robert, School (Public Schools of Richmond MPS), 1000-1012 Carlisle Ave., Richmond (Independent City), MP100001643

North Thompson Street Historic District, N. Thompson St. between Broad St. and Monument Ave., Richmond (Independent City), SG100001644

Virginia Beach Independent City

Oceana Neighborhood Historic District, Indiana, Louisa, Michigan, New York, & Ohio Aves., Middle, Roselynn & West Lns., Oceana, Southern & Virginia Beach Blvd., Virginia Beach (Independent City), SG100001645

A request for removal has been made for the following resource(s):

INDIANA

Marion County

Cotton-Ropkey House, 6360 W. 79th St., Indianapolis, OT84001086

Additional documentation has been received for the following resources:,

INDIANA

Marion County

Old Pathology Building, 3000 W. Washington St. (Central State Hospital), Indianapolis, AD72000011

Cole, Joseph J., Jr., House, 4909 N. Meridian St., Indianapolis, AD97000599

MINNESOTA

Sibley County

Gibbon Village Hall, 1st Ave. and 12th St., Gibbon, AD82003036

SOUTH DAKOTA

Pennington County

Rapid City West Boulevard Historic District, Bordered by Kansas City, Fairview, 11th, 7th, and 8th Sts., Rapid City, AD74001898

VIRGINIA

Alexandria Independent City

Alexandria Historic District, Prince & St. Asaph Sts., Alexandria (Independent City), AD66000928

Nominations submitted by Federal Preservation Officers:

The State Historic Preservation Officer reviewed the following nomination and responded to, the Federal Preservation Officer within 45 days of receipt of the nomination and supports, listing the property in the National Register of Historic Places.

COLORADO

Boulder County

Longhurst Lodge, CO 7 & Cty. Rd. 82, Allenspark, SG100001606

Authority: 60.13 of 36 CFR part 60.

Dated: August 11, 2017.
J. Paul Loether,
Chief, National Register of Historic Places/National Historic Landmarks Program Keeper, National Register of Historic Places.

[FR Doc. 2017-18524 Filed 8-31-17; 8:45 am]

BILLING CODE 4312-52-P